DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on August 6, 2001. The March 5, 2001, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2001. When contract negotiations are completed, and prior to execution, each proposed contract form must be approved by the Secretary of the Interior, or pursuant to delegated or redelegated authority, the Commissioner of Reclamation or one of the regional directors. In some instances congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

BON—Basis of Negotiation

BCP—Boulder Canyon Project

Reclamation—Bureau of Reclamation

CAP—Central Arizona Project

CUP—Central Utah Project

CVP—Central Valley Project

CRSP—Colorado River Storage Project

D&MC—Drainage and Minor Construction

FR—Federal Register

IDD—Irrigation and Drainage District

ID—Irrigation District

M&I—Municipal and Industrial

NEPA—National Environmental Policy Act

O&M—Operation and Maintenance

P-SMBP—Pick-Sloan Missouri Basin Program

PPR—Present Perfected Right

RRA—Reclamation Reform Act

R&B—Rehabilitation and Betterment

SOD—Safety of Dams

SRPA—Small Reclamation Projects Act

WCUA—Water Conservation and Utilization Act

WD—Water District

Pacific Northwest Region

Bureau of Reclamation, 1150 North Curtis Road, Suite 100, Boise, Idaho 83706-1234, telephone 208-378-5223.

New contract action:

23. Roza ID, Yakima Project, Washington: Deferment contract for the deferment of the District's 2001 construction obligation under the Drought Act of 1959.

Modified contract action:

14. Farmer's and Buck and Jones Ditch Associations or the Applegate Irrigation Corporation, Rogue River Basin Project, Oregon: Long-term irrigation water service contract for provision of up to 4,475 acre-feet of stored water from Applegate Reservoir (a Corps of Engineers' project) in exchange for the assignment of Little Applegate River natural flow rights to Reclamation for instream flow use. Contract may be executed with Applegate Irrigation Corporation representing and comprising the participating members of the Ditch Associations.

Mid-Pacific Region

Bureau of Reclamation, 2800 Cottage Way, Sacramento, California 95825-1898, telephone 916-978-5250.

Modified contract action:

13. Santa Barbara County Water Agency, Cachuma Operations and Maintenance Board (as acknowledged by the Santa Barbara County Water Agency), Cachuma Project, California: Temporary interim contract (not to exceed 1 year) to transfer responsibility of certain Cachuma Project facilities to member units.

Completed contract actions:

15. East Bay Municipal Utility District, CVP, California: Amendment to long-term water service contract No. 14-06-200-5183A to change the points of diversion and adjust water quantities. The amended contract will conform to current Reclamation law. Amendatory contract No. 14-06-200-5183A-1 was executed July 20, 2001.

36. Monterey County Water Resources Agency, SRPA, California: Proposed contract amendment to provide for deferral of installments of construction charges under a SRPA loan repayment contract. Amendatory contract No. 5-07-20-W1283A was executed September 5, 2001.

37. Monterey Regional Water Pollution Control Agency, SRPA, California: Proposed contract amendment to provide for deferral of installments of construction charges under a SRPA loan repayment contract. Amendatory contract No. 5-07-W1284A was executed September 5, 2001.

39. Truckee-Carson ID, Newlands Project, Nevada: Amendment to O&M contract No. 7-07-20-X0348 to include mutually agreed upon Consumer Price Index for the current year and incorporation of a new Consumer Price Index as determined by the Contracting Officer applicable to Fallon, Nevada (or the nearest urban area in the event that such index is not determined for Fallon, Nevada). Amendatory contract No. 7-07-20-X0348A was executed September 10, 2001.

Lower Colorado Region

Bureau of Reclamation, PO Box 61470 (Nevada Highway and Park Street), Boulder City, Nevada 89006-1470, telephone 702-293-8536.

Modified contract action:

3. Brooke Water Company, BCP, Arizona: Contract amendment for additional Colorado River water to entities located along the Colorado River in Arizona for up to 120 acre-feet per year for domestic uses as recommended by the Arizona Department of Water Resources.

Discontinued contract actions:

54. City of Chandler, CAP, Arizona: Proposed amendment of CAP water delivery subcontract to delete provision requiring offsetting reduction of Chandler's CAP water entitlement for quantities of water received in a direct effluent exchange with an Indian community. This action was combined with item No. 55 of the March 5, 2001, report and is now item No. 63 as published in the August 6, 2001, report.

55. City of Mesa, CAP, Arizona: Proposed amendment of CAP water delivery subcontract to delete provision requiring offsetting reduction of Mesa's CAP water entitlement for quantities of water received in a direct effluent exchange with an Indian community. This action was combined with item No. 54 of the March 5, 2001, report and is now item No. 63 as published in the August 6, 2001, report.

Completed contract actions:

3. Havasu Water Co., BCP, Arizona: Contracts for additional Colorado River water to entities located along the Colorado River in Arizona for up to 1,420 acre-feet per year for domestic uses as recommended by the Arizona Department of Water Resources.

23. Southern Nevada Water Authority, Robert B. Griffith Water Project, BCP, Nevada: Amend the repayment contract to provide for the incorporation of the Griffith Project into the expanded Southern Nevada Water System, funded and built by Southern Nevada Water Authority, to facilitate the diversion, treatment, and conveyance of additional water out of Lake Mead for which the Authority has an existing entitlement to use.

37. Southern Nevada Water Authority, Robert B. Griffith Water Project, Nevada: Title transfer of physical facilities with interest in acquired lands and grant or assignment of perpetual rights or easements over Federal lands.

41. BHP Copper, Inc., CAP, Arizona: Proposed agreement and amendments to CAP water delivery subcontracts to transfer BHP Copper's CAP water allocation to the City of Scottsdale, Town of Carefree, and Tonto Hills Utility Company.

59. Yuma County Water Users Association, Colorado River Front Work and Levee System, Arizona: Contract providing for operation, maintenance, and replacement of drainage facilities.

60. North Baja Pipeline, BCP, Arizona: Contract assignment of agricultural water from Jamar Produce Corporation to North Baja Pipeline.

Upper Colorado Region:

Bureau of Reclamation, 125 South State Street, Room 6107, Salt Lake City, Utah 84138-1147, telephone 801-524-3691.

New contract actions:

24. Provo River Water Users Association, Provo River Project, Utah: Contract to provide for repayment of reimbursable portion of construction costs of SOD modifications to Deer Creek Dam.

25. Village of Taos Ski Valley, San Juan-Chama Project, New Mexico: Conversion of M&I water service contract for 15 acre-feet per year to a repayment contract.

26. City of Espanola, San Juan-Chama Project, New Mexico: Conversion of M&I water service contract for 1,000 acre-feet per year to a repayment contract.

Modified contract action:

11. Sanpete County Water Conservancy District, Narrows Project, Utah: Application for a SRPA loan and grant to construct a dam, reservoir, and pipeline to annually supply approximately 5,000 acre-feet of water through a transmountain diversion from upper Gooseberry Creek in the Price River drainage (Colorado River Basin) to the San Pitch—Sevier River (Great Basin).

Completed contract action:

16. Twining Water and Sanitation District, San Juan-Chama Project, New Mexico: Assignment of M&I water service contract for 15 acre-feet per year to the Village of Taos Ski Valley and conversion of contract from water service to repayment contract. Assignment executed September 6, 2001.

Great Plains Region:

Bureau of Reclamation, PO Box 36900, Federal Building, 316 North 26th Street, Billings, Montana 59107-6900, telephone 406-247-7730.

New contract actions:

48. Lower Marias Unit, P-SMBP, Montana: Initiating 25-year water service contract for up to 910 acre-feet of storage from Tiber Reservoir to irrigate 303.2 acres. A 1-year temporary contract has been issued to allow additional time to complete necessary actions required for the long-term contract. Another 1-year temporary has been issued to continue delivery of water until the long-term renewal process can be completed.

49. Tom Green County Water Control and Improvement District No. 1, San Angelo Project, Texas: The District has requested deferment of its 2002 repayment obligation. A BON has been prepared requesting approval to amend contract No. 14-06-500-369.

Modified contract actions:

42. Lower Marias Unit, P-SMBP, Montana: City of Chester water service contract expires January of 2002. Initiating negotiation for renewal of a water service contract for an annual supply of raw water for domestic use from the Milk River not to exceed 500 acre-feet. A 1-year interim contract may be issued to continue delivery of water from the Milk River below Fresno Reservoir until the necessary actions can be completed to renew the long-term contract.

47. City of Dickinson, P-SMBP, North Dakota: In accordance with Public Law 106-566, a BON has been prepared to amend Contract No. 9-07-60-W0384 which will allow the City to pay a lump-sum payment in lieu of its remaining repayment obligation for construction costs associated with the bascule gate. The BON has been approved by the Commissioner.

Dated: October 17, 2001.
Elizabeth Cordova-Harrison,
Deputy Director, Office of Policy.

[FR Doc. 01-26871 Filed 10-24-01; 8:45 am]

BILLING CODE 4310-MN-P